JUDICIAL CONFERENCE OF THE UNITED STATES

Hearings of the Judicial Conference Advisory Committee on Rules of Criminal Procedure; Federal Register Citation of Previous Announcement: 77 FR 49828

AGENCY: Judicial Conference of the United States, Advisory Committee on Rules of Criminal Procedure.

ACTION: Notice of Cancellation of Open Hearing.

SUMMARY: The following public hearing on proposed amendments to the Federal Rules of Criminal Procedure has been canceled: Criminal Rules Hearing, January 4, 2013, Cambridge, MA.

FOR FURTHER INFORMATION CONTACT: Benjamin J. Robinson, Deputy Rules Officer and Counsel, Administrative Office of the United States Courts, Washington, DC 20544, telephone (202) 502-1820.

Dated: December 7, 2012.
Benjamin J. Robinson,
Rules Committee Deputy and Counsel.

[FR Doc. 2012-29959 Filed 12-11-12; 8:45 am]

BILLING CODE 2210-55-P